DEPARTMENT OF AGRICULTURE

Agricultural Marketing Service

7 CFR Part 51

[Docket # AMS-FV-07-0010; FV-06-302]

United States Standards for Grades of Sweet Cherries

AGENCY: Agricultural Marketing Service, USDA.

ACTION: Advanced notice of proposed rulemaking; withdrawal.

SUMMARY: The Agricultural Marketing Service (AMS) is withdrawing the notice soliciting comments on its proposal to amend the voluntary United States Standards for Grades of Sweet Cherries. After reviewing and considering the comments received, the agency has decided not to proceed with this action.

EFFECTIVE DATE: December 5, 2007.

FOR FURTHER INFORMATION CONTACT: Vincent J. Fusaro, Standardization Section, Fresh Products Branch, (202) 720-2185. The United States Standards for Grades of Sweet Cherries are available by accessing the Fresh Products Branch Web site at: http://www.ams.usda.gov/standards/stanfrfv.htm.

Background

AMS identified the United States Standards for Grades of Sweet Cherries for possible revisions. The revision would have included adding standardized row sizes into the standard. These standardized row sizes would establish a uniform basis for defining size in the industry. The standards were last revised on May 7, 1971.

On March 30, 2007, AMS published a proposed rule in the Federal Register (72 FR 15055) soliciting comments on a possible revision to the United States Standards for Grades of Sweet Cherries. The sixty-day comment period ended May 29, 2007.

Three comments were received. All three comments received, one from a grower, packer, shipper, another from a separate grower, packer, shipper, and one from an association representing independent wholesale receivers, were in opposition to revising the United States Standards for Grades of Sweet Cherries. The first commentor stated that the current standard has not been a problem as it is currently written. The second commenter stated that adding standardized row sizes would limit the ability of farmers to market their sweet cherry crop. This commenter also stated that the market already enforced sizing standards that are firm but flexible, which is necessary because sweet cherries are highly perishable and subject to fluctuations in crop size and market conditions. The third commenter stated that there was concern about the viability of the proposal. This commentor suggested several different solutions, however, those solutions are not within the scope of this proposal and therefore will not be addressed in this action. These comments are available by accessing the http://www.regulations.gov Web site.

After reviewing and considering the comments received, AMS has decided not to proceed with the action. Therefore, the proposed rule published March 30, 2007 (72 FR 15055) is withdrawn.

Authority: 7 U.S.C. 1621-1627.

Dated: November 29, 2007.
Lloyd C. Day,
Administrator, Agricultural Marketing Service.

[FR Doc. E7-23531 Filed 12-4-07; 8:45 am]

BILLING CODE 3410-02-P